DEPARTMENT OF THE INTERIOR

Bureau of Ocean Energy Management, Regulation and Enforcement

Gulf of Mexico (GOM), Outer Continental Shelf (OCS), Western Planning Area (WPA), Oil and Gas Lease Sale for the 2007-2012 5-Year OCS Program

AGENCY: Bureau of Ocean Energy Management, Regulation and Enforcement (BOEMRE), Interior.

ACTION: Notice of Availability (NOA) of a Final Supplemental Environmental Impact Statement (EIS).

Authority: This NOA is published pursuant to the regulations (40 CFR 1503) implementing the provisions of the National Environmental Policy Act (NEPA) of 1969, as amended (42 U.S.C. 4321 et seq. (1988)).

SUMMARY: BOEMRE has prepared a Final Supplemental EIS on an oil and gas lease sale tentatively scheduled late in 2011 for WPA Lease Sale 218, which is the final WPA lease sale in the 2007-2012 5-Year OCS Program. The proposed sale is in the Gulf of Mexico's WPA off the States of Texas and Louisiana. This Final Supplemental EIS updated the environmental and socioeconomic analyses for WPA Lease Sale 218, originally evaluated in the Gulf of Mexico OCS Oil and Gas Lease Sales: 2007-2012; WPA Sales 204, 207, 210, 215, and 218; Central Planning Area (CPA) Sales 205, 206, 208, 213, 216, and 222, Final EIS (OCS EIS/EA MMS 2007-018) (Multisale EIS), completed in April 2007. This Final Supplemental EIS also updated the environmental and socioeconomic analyses for WPA Lease Sale 218 in the GOM OCS Oil and Gas Lease Sales: 2009-2012; CPA Sales 208, 213, 216, and 222; WPA Sales 210, 215, and 218; Final Supplemental EIS (OCS EIS/EA MMS 2008-041) (2009-2012 Supplemental EIS), completed in September 2008.

SUPPLEMENTARY INFORMATION: BOEMRE developed the Final Supplemental EIS for WPA Lease Sale 218 in order to consider new circumstances and information arising from, among other things, the Deepwater Horizon event and spill. This Final Supplemental EIS provides updates on the baseline conditions and potential environmental effects of oil and natural gas leasing, exploration, development, and production in the WPA. BOEMRE conducted an extensive search for new information made available since completion of the Multisale EIS and the 2009-2012 Supplemental EIS and in consideration of the Deepwater Horizon event, including scientific journals; interviews with personnel from academic institutions and Federal, State, and local agencies; and available scientific data and information from academic institutions and Federal, State, and local agencies. BOEMRE has reexamined potential impacts of routine activities and accidental events, including a possible large-scale event, associated with the proposed WPA lease sale and the proposed lease sale's incremental contribution to the cumulative impacts on environmental and socioeconomic resources. Like the Multisale EIS and the 2009-2012 Supplemental EIS, the oil and gas resource estimates and scenario information for this Final Supplemental EIS are presented as ranges that would likely be involved as a result of this proposed lease sale.

Final Supplemental EIS Availability: To obtain a single printed or CD-ROM copy of the Final Supplemental EIS for WPA Lease Sale 218, you may contact the BOEMRE, Gulf of Mexico OCS Region, Public Information Office (MS 5034), 1201 Elmwood Park Boulevard, Room 250, New Orleans, Louisiana 70123-2394 (1-800-200-GULF). An electronic copy of the Final Supplemental EIS (as well as links to the Multisale EIS and the 2009-2012 Supplemental EIS) is available at BOEMRE's Internet Web site at http://www.gomr.boemre.gov/homepg/regulate/environ/nepa/nepaprocess.html. The CD-ROM version of the Final Supplemental EIS also contains copies of the Multisale EIS and the 2009-2012 Supplemental EIS. Several libraries along the Gulf Coast have been sent copies of the Final Supplemental EIS. To find out which libraries, and their locations, have copies of the Final Supplemental EIS for review, you may contact BOEMRE's Public Information Office or visit BOEMRE's Internet Web site at http://www.gomr.boemre.gov/homepg/regulate/environ/libraries.html.

Comments: Federal, State, and local government agencies and other interested parties are requested to send their written comments on the Final Supplemental EIS in one of the following two ways:

1. In written form enclosed in an envelope labeled “Comments on the WPA Lease Sale 218 Final Supplemental EIS” and mailed (or hand carried) to Gary D. Goeke, Chief, Environmental Assessment Section, Leasing and Environment (MS 5410), Bureau of Ocean Energy Management, Regulation and Enforcement, Gulf of Mexico OCS Region, 1201 Elmwood Park Boulevard, New Orleans, Louisiana 70123-2394.

2. Electronically to the BOEMRE e-mail address: WPASupplementalEIS@boemre.gov. Comments should be submitted no later than 30 days from the publication of this NOA.

FOR FURTHER INFORMATION CONTACT: For more information on the Final Supplemental EIS, you may contact Mr. Gary D. Goeke, Bureau of Ocean Energy Management, Regulation and Enforcement, Gulf of Mexico OCS Region, 1201 Elmwood Park Boulevard (MS 5410), New Orleans, Louisiana 70123-2394, or by e-mail at WPASupplementalEIS@boemre.gov. You may also contact Mr. Goeke by telephone at (504) 736-3233.

Dated: July 18, 2011.
Robert P. LaBelle,
Acting Associate Director for Offshore Energy and Minerals Management.

[FR Doc. 2011-20559 Filed 8-11-11; 8:45 am]

BILLING CODE 4310-MR-P